DEPARTMENT OF THE TREASURY

Office of Foreign Assets Control

31 CFR Part 582

Publication of Nicaragua Sanctions Regulations Web General Licenses 1, 2, and 2A

AGENCY: Office of Foreign Assets Control, Treasury.

ACTION: Publication of Web General Licenses.

SUMMARY: The Department of the Treasury's Office of Foreign Assets Control (OFAC) is publishing three general licenses (GLs) issued pursuant to the Nicaragua Sanctions Regulations: GLs 1, 2, and 2A, each of which was previously made available on OFAC's website.

DATES: GLs 1 and 2 were issued on March 5, 2020. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On March 5, 2020, OFAC issued GLs 1 and 2 to authorize certain transactions otherwise prohibited by the Nicaragua Sanctions Regulations, 31 CFR part 582 (NSR). On March 25, 2020, OFAC issued GL 2A, which superseded GL 2, pursuant to the NSR and the Nicaragua Investment Conditionality Act of 2018 (50 U.S.C. 1701 note) (NICA Act), previously known as the “Nicaragua Human Rights and Anticorruption Act of 2018.” GL 2A expired on May 6, 2020. Also on March 25, 2020, OFAC issued GL 1A pursuant to the NSR and the NICA Act; GL 1A superseded GL 1 and was later incorporated into the NSR (85 FR 43436). Each GL was made available on OFAC's website (https://ofac.treasury.gov) when it was issued. The text of GLs 1, 2, and 2A is provided below.

OFFICE OF FOREIGN ASSETS CONTROL

Nicaragua Sanctions Regulations

31 CFR Part 582

GENERAL LICENSE NO. 1

Official Business of the United States Government

(a) Except as provided in paragraph (b) of this general license, all transactions that are for the conduct of the official business of the United States Government by employees, grantees, or contractors thereof are authorized.

(b) This general license does not authorize any transaction that is prohibited by any part of 31 CFR chapter V other than part 582.

Andrea Gacki,

Director, Office of Foreign Assets Control

Dated: March 5, 2020.

OFFICE OF FOREIGN ASSETS CONTROL

Nicaragua Sanctions Regulations

31 CFR Part 582

GENERAL LICENSE NO. 2

Authorizing the Wind Down of Transactions Involving the Nicaraguan National Police

(a) Except as provided in paragraph (b) of this general license, all transactions and activities prohibited by the Nicaragua Sanctions Regulations, 31 CFR part 582 (the NSR), that are ordinarily incident and necessary to the wind down of transactions involving the Nicaraguan National Police (NNP), or any entity in which the NNP owns, directly or indirectly, a 50 percent or greater interest, including the processing of salary payments from the NNP, or any entity in which the NNP owns, directly or indirectly, a 50 percent or greater interest, to its employees, are authorized through 12:01 a.m. eastern daylight time, May 6, 2020.

(b) This general license does not authorize:

(1) Any debit to an account of the NNP, or any entity in which the NNP owns, directly or indirectly, a 50 percent or greater interest, on the books of a U.S. financial institution; or

(2) Any transactions or activities prohibited by any part of 31 CFR chapter V other than the NSR, or any transactions or activities with any blocked person other than the blocked persons identified in paragraph (a) of this general license.

Andrea Gacki,

Director, Office of Foreign Assets Control

Dated: March 5, 2020.

OFFICE OF FOREIGN ASSETS CONTROL

Nicaragua Sanctions Regulations

31 CFR Part 582

Nicaragua Human Rights and Anticorruption Act of 2018

50 U.S.C. 1701 Note

GENERAL LICENSE NO. 2A

Authorizing the Wind Down of Transactions Involving the Nicaraguan National Police

(a) Except as provided in paragraph (b) of this general license, all transactions and activities prohibited by the Nicaragua Sanctions Regulations, 31 CFR part 582 (the NSR) or the Nicaragua Human Rights and Anticorruption Act of 2018 (NHRAA), that are ordinarily incident and necessary to the wind down of transactions involving the Nicaraguan National Police (NNP), or any entity in which the NNP owns, directly or indirectly, a 50 percent or greater interest, including the processing of salary payments from the NNP, or any entity in which the NNP owns, directly or indirectly, a 50 percent or greater interest, to its employees, are authorized through 12:01 a.m. eastern daylight time, May 6, 2020.

(b) This general license does not authorize:

(1) Any debit to an account of the NNP, or any entity in which the NNP owns, directly or indirectly, a 50 percent or greater interest, on the books of a U.S. financial institution; or

(2) Any transactions or activities prohibited by any part of 31 CFR chapter V other than the NSR, or any transactions or activities with any blocked person other than the blocked persons identified in paragraph (a) of this general license.

(c) Effective March 25, 2020, General License No. 2, dated March 5, 2020, is replaced and superseded in its entirety by this General License No. 2A.

Andrea Gacki,
Director, Office of Foreign Assets Control.
Dated: March 25, 2020.
Bradley T. Smith,
Director, Office of Foreign Assets Control.

[FR Doc. 2023-24332 Filed 11-2-23; 8:45 am]

BILLING CODE 4810-AL-P